DEPARTMENT OF ENERGY

Federal Energy Regulatory Commission

[Docket No. CP01-50-000]

The Montana Power Company; The Montana Power, L.L.C.; Notice of Application T Transfer Natural Gas Act Section 3 Authorization and Presidential Permit

December 27, 2000.

Take notice that on December 18, 2000, The Montana Power Company (MPC), 40 East Broadway, Butte, Montana 59701, and The Montana Power, L.L.C. (LLC), 40 East Broadway, Butte, Montana 59701, submitted an application to transfer from MPC to LLC Natural Gas Act Section 3 authorization and a Presidential Permit to use and operate MPC's Carway, Montana border facilities so as to effectuate a change in MPC's legal form. The details of the request are more fully set forth in the application which is on file with the Commission and open to public inspection. The filing may be viewed at http://www.ferc.fed.us/online/rims.htm (call 202-208-2222 for assistance).

The border facilities to be transferred consist of that portion of the 16-inch pipeline, extending approximately 51 miles from Cut Bank, Montana, to the international boundary between the United States and Canada in Section 2, Township 37 North, Range 13 West in Glacier County, Montana, where it connects with a 16-inch Canadian Montana Pipeline Company pipeline extending northwest into the Province of Alberta, Canada.

Questions regarding the details of this proposed project should be directed to William A. Pascoe, Vice-President—Transmission Services, The Montana Power Company, 40 East Broadway, Butte, Montana 59701, (406) 497-4212 (telephone) and (406) 497-2150 (fax); Douglas M. Canter, McCarthy, Sweeney & Harkaway, P.C., 2175 K Street, N.W. Suite 600, Washington, D.C. 20037, (202) 393-5710 (telephone) and (202) 393-5721 (fax); or Marjorie L. Thomas, Legal Department, The Montana Power Company, 40 East Broadway, Butte, Montana 59701, (406) 497-2314 (telephone) and (406) 497-2451 (fax).

There are two ways to become involved in the Commission's review of this project. First, any person wishing to obtain legal status by becoming a party to the proceedings for this project should, on or before January 22, 2001, file with the Federal Energy Regulatory Commission, 888 First Street, NE, Washington, DC 20426, a motion to intervene in accordance with the requirements of the Commission's Rules of Practice and Procedure (18 CFR 385.214 or 385.211) and the Regulation under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-76 Filed 1-2-01; 8:45 am]

BILLING CODE 6717-01-M